DEPARTMENT OF COMMERCE

National Oceanic and Atmospheric Administration

RIN 0648-XW59

Western Pacific Fishery Management Council; Public Meetings

AGENCY: National Marine Fisheries Service (NMFS), National Oceanic and Atmospheric Administration (NOAA), Commerce.

ACTION: Notice of public meetings.

SUMMARY: The Western Pacific Fishery Management Council (Council) will hold a meeting of its Hawaii Plan Team (PT).

DATES: The Hawaii PT meeting will be held on June 16, 2010. For specific times and agendas, see SUPPLEMENTARY INFORMATION.

ADDRESSES: The PT meeting will be held at the Council Office Conference Room, 1164 Bishop Street, Suite 1400, Honolulu, HI.

FOR FURTHER INFORMATION CONTACT: Kitty M. Simonds, Executive Director; telephone: (808) 522-8220.

SUPPLEMENTARY INFORMATION: Public comment periods will be provided. The order in which agenda items are addressed may change. The meetings will run as late as necessary to complete scheduled business.

Schedule and Agenda for PT meeting:

Wednesday, June 16, 2010, 9 a.m. - 12 noon

The Hawaii PT will meet to hear reports on, discuss and consider developing recommendations on the following upcoming Council meeting actions:

A. Process for Closure of the Main Hawaiian Island Bottomfish Fishery

B. Update on the Status of the Hawaii Bottomfish Stock

C. Main Hawaiian Islands Bottomfish Total Allowable Catch options for 2010/11 fishery

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Kitty M. Simonds, (808) 522-8220 (voice) or (808) 522-8226 (fax), at least 5 days prior to the meeting date.

Authority: 16 U.S.C. 1801 et seq.

Dated: May 18, 2010.
Tracey L. Thompson,
Acting Director, Office of Sustainable Fisheries, National Marine Fisheries Service.

[FR Doc. 2010-12331 Filed 5-21-10; 8:45 am]

BILLING CODE 3510-22-S